DEPARTMENT OF JUSTICE

Notice of Lodging of Consent Decree Under the Clean Water Act and Rivers and Harbors Act

Notice is hereby given that on March 9, 2006, a consent decree in United States v. James H. Pflueger, et al., Civil Action No. 06-00140 SPK BMK, was lodged with the United States District Court for the District of Hawaii.

The complaint, filed concurrently with lodging of the consent decree, was brought on behalf of the Environmental Protection Agency (“EPA”) and the State of Hawaii, Department of Health, under Sections 309 and 504 of the Clean Water Act (“CWA”), 33 U.S.C. 1319 & 1364, Section 13 of the Rivers & Harbors Act of 1899 (“R&HA”), 33 U.S.C. 407, and State law. The complaint alleges that defendants James H. Pflueger, Pflueger Properties, and Pilaa 400 LLC illegally discharged storm water associated with their construction activities on the Island of Kauai, Hawaii, and seeks civil penalties and injunctive relief. The federal claims in the proposed complaint also include a claim for injunctive relief under R&HA Section 13, 33 U.S.C. 407, to address sediment discharges from defendants' property, and claims for civil penalties and injunctive relief for defendants' placement of unpermitted fill in stream courses on their property, in violation of CWA Section 404. Finally, the complaint includes state claims for violations of state storm water and water quality regulations.

The consent decree requires defendants to pay a $2 million civil penalty and to perform a Supplemental Environmental Project designed to reduce the inflow of pollution to receiving waters and improve water quality, at an estimated cost of $200,000. Finally, the decree requires defendants to complete measures necessary to abate further discharges of pollution and to repair the damage done to waterways on their property.

The Department of Justice will receive for a period of thirty (30) days from the date of this publication comments relating to the consent decrees. Comments should be addressed to the Assistant Attorney General, Environment and Natural Resources Division, P.O. Box 7611, U.S. Department of Justice, Washington, DC 20044-7611, and should refer to United States v. James H. Pflueger, et al., D.J. Ref. No. 90-5-1-1-07871.

During the public comment period, the consent decrees may be examined on the following Department of Justice Web site, http://www.usdoj.gov/enrd/open.html. Copies of the consent decrees may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy, please enclose a check in the amount of $14.75 (25 cents per page reproduction cost) payable to the U.S. Treasury, for a copy of the consent decree without attachments. Requesters who desire copies of the attachments (which include oversize and color materials) should call to make separate arrangements for reproduction, which will be charged at the cost for outside commercial copying.

Henry Friedman,
Assistant Chief, Environmental Enforcement Section, Environment and Natural Resources Division.

[FR Doc. 06-2776 Filed 3-21-06; 8:45 am]

BILLING CODE 4410-15-M